DEPARTMENT OF HEALTH AND HUMAN SERVICES

Administration for Children and Families

Submission for OMB Review; Comment Request

Title: DHHS/ACF/ASPE/DOL Enhanced Services for the Hard-to-Employ Demonstration and Evaluation Project Follow-up Surveys.

OMB No.: 0970-0251.

Description: The Enhanced Services for the Hard-to-Employ Demonstration and Evaluation Project (HtE) is the most ambitious, comprehensive effort to learn what works in this area to date and is explicitly designed to build on previous and ongoing research by rigorously testing a wide variety of approaches to promote employment and improve family functioning and child well-being. The HtE project will “conduct a multi-site evaluation that studies the implementation issues, program design, net impact and benefit-costs of selected programs” ¹ designed to help Temporary Assistance for Needy Families (TANF) recipients, former TANF recipients or low-income parents who are hard-to-employ. The project is sponsored by the Office of Planning, Research and Evaluation (OPRE) of the Administration for Children and Families (ACF), the Office of the Assistant Secretary for Planning and Evaluation (ASPE) in the U.S. Department of Health and Human Services (HHS) and the U.S. Department of Labor (DOL).

¹ From the Department of Health and Human Services RFP No.: 233-01-0012.

The evaluation involves an experimental, random assignment design in up to five sites (four are confirmed), testing a diverse set of strategies to promote employment for low-income parents who face serious obstacles to employment. The four include: (1) Intensive care management to facilitate the use of evidence-based treatment for major depression among parents receiving Medicaid in Rhode Island; (2) job readiness training, worksite placements, job coaching, job development aNd other training opportunities for recent parolees in New York City; (3) pre-employment services and transitional employment for long-term TANF participants in Philadelphia; and (4) home- and center-based care for low-income families who have young children or are expecting in Kansas and Missouri. The latter is a two-generation test, designed to help the children and their parents.

Over the next several years, the HtE project will generate a wealth of rigorous data on implementation, effects and costs of these alternative approaches. The follow-up surveys will be used for the following purposes:

• To study the extent to which different HtE approaches impact employment, earnings, income, welfare dependence and the presence or persistence of employment barriers;

• To study how different HtE strategies impact child well-being, when programs are directed toward parents and when they are designed to target both generations;

• To collect data on a wider range of outcome measures than is available through Welfare, Medicaid, Food Stamps, Social Security, the Criminal Justice System or Unemployment Insurance records in order to understand the family circumstances and attributes and situations that contribute to the difficulties in finding employment; job retention and job quality; educational attainment; interactions with and knowledge of the HtE program; household composition; child care; transportation; health care; income; physical and mental health problems; substance abuse; domestic violence; and criminal history.

• To conduct non-experimental analyses to explain participation decisions and provide a descriptive picture of the circumstances of individuals who are hard-to-employ;

• To obtain participation information important to the evaluation's benefit-cost component; and to obtain contact information for possible future follow-up, which will be important to achieving high response rates for additional surveys.

Materials for the HtE baseline survey were previously submitted to OMB on April 29, 2003, and a revised packet for the Rhode Island site was submitted on April 7, 2004. Both submissions have been approved by OMB.

The purpose of this submission is to introduce the five survey instruments that will be used to collect follow-up data in the four confirmed sites. These are as follows:

1. A 6-month follow-up survey in Rhode Island (Mental Health Test);

2. A 15-month follow-up survey in Rhode Island (Mental Health Test);

3. A 12-month follow-up survey in New York City (Recent Parolees);

4. A 12-month follow-up survey in Philadelphia (Transitional Employment for long-term TANF participants); and

5. A 12-month follow-up survey in Kansas and Missouri (Two Generation Test).

Respondents: The respondents to these follow-up surveys will be low-income individuals from the five states represented by the four sites currently participating in the HtE Project: Kansas, Missouri, New York, Pennsylvania and Rhode Island. Many will be current or former TANF participants, and many will be current or former recipients of Medicaid. These populations are at heightened risk for all of the barriers that cause people to be hard-to-employ.

Prior to these follow-up surveys, basic demographic information for all survey respondents will have been obtained wherever possible from the existing automated systems or brief baseline information forms. In the Rhode Island site, respondents will have completed a more detailed baseline survey, which is required to establish baseline measures of depression and related conditions.

The annual burden estimates are detailed below, and the substantive content of each survey are detailed in the supporting statement.

Annual Burden Estimates
Instrument | Number of respondents | Number of responses per respondent | Average burden hours per response | Total burden hours
Rhode Island, 6-month | 734 | 1 | 38 minutes or .63 hrs | 464.87
Rhode Island, 15-month | 734 | 1 | 45 minutes or .75 hrs | 550.50
New York City, 12-month | 1,000 | 1 | 32 minutes or .53 hrs | 533.33
Philadelphia, 12-month | 750 | 1 | 25 minutes or .42 hrs | 312.50
Kansas/Missouri, 12-month | 680 | 1 | 45 minutes or .75 hrs | 510.00

Estimated Total Annual Burden Hours. 2,371.20

Additional Information

Copies of the proposed collection may be obtained by writing to the Administration for Children and Families. Office of Administration, Office of Information Services, 370 L'Enfant Promenade, SW., Washington, DC 20447, Attn: ACF Reports Clearance Officer. All requests should be identified by the title of the information collection. E-mail address: grjohnson@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: February 8, 2005
Robert Sargis,
Reports Clearance Officer.

[FR Doc. 05-2825 Filed 2-14-05; 8:45 am]

BILLING CODE 4184-01-M